DEPARTMENT OF ENERGY

Federal Energy Regulatory Commission

Combined Notice of Filings #1

Take notice that the Commission received the following exempt wholesale generator filings:

Docket Numbers: EG18-15-000.

Applicants: Wildwood Lessee, LLC.

Description: Wildwood Lessee, LLC's Notice of Self-Certification of Exempt Wholesale Generator Status.

Filed Date: 11/14/17.

Accession Number: 20171114-5054.

Comments Due: 5 p.m. ET 12/5/17.

Take notice that the Commission received the following electric rate filings:

Docket Numbers: ER16-1986-004.

Applicants: Michigan Electric Transmission Company, LLC.

Description: Compliance filing: Compliance Filing for 10/23/17 order approving settlement to be effective 6/1/2016.

Filed Date: 11/14/17.

Accession Number: 20171114-5094.

Comments Due: 5 p.m. ET 12/5/17.

Docket Numbers: ER16-1986-005.

Applicants: Michigan Electric Transmission Company, LLC.

Description: Compliance filing: Compliance Filing with later effective date to be effective 8/21/2016.

Filed Date: 11/14/17.

Accession Number: 20171114-5102.

Comments Due: 5 p.m. ET 12/5/17.

Docket Numbers: ER17-351-003; ER17-354-003; ER17-2162-002; ER17-2163-002.

Applicants: American Falls Solar, LLC, American Falls Solar II, LLC, SunE Beacon Site 2 LLC, SunE Beacon Site 5 LLC.

Description: Notice of Change in Status of American Falls Solar, LLC, et al.

Filed Date: 11/13/17.

Accession Number: 20171113-5413.

Comments Due: 5 p.m. ET 12/4/17.

Docket Numbers: ER18-280-001; ER12-1436-013; ER14-153-007; ER14-154-007; ER13-1793-010; ER10-3300-015; ER10-3169-012; ER13-1488-009; ER10-3143-019; ER16-517-002; ER12-1260-012; ER10-2329-010.

Applicants: Lee County Generating Station, LLC, Eagle Point Power Generation LLC, Gibson City Energy Center, LLC, Grand Tower Energy Center, LLC, Hazle Spindle, LLC, La Paloma Generating Company, LLC, Michigan Power Limited Partnership, Quantum Pasco Power, LP, Sabine Cogen, LP, Shelby County Energy Center, LLC, Stephentown Spindle, LLC, Vineland Energy LLC.

Description: Notice of Non-Material Change in Status of the Rockland Sellers.

Filed Date: 11/13/17.

Accession Number: 20171113-5403.

Comments Due: 5 p.m. ET 12/4/17.

Docket Numbers: ER18-286-000.

Applicants: American Transmission Systems, Incorporated, PJM Interconnection, L.L.C.

Description: § 205(d) Rate Filing: ATSI submits Interconnection Agreement No. 3994 to be effective 1/14/2018.

Filed Date: 11/14/17.

Accession Number: 20171114-5044.

Comments Due: 5 p.m. ET 12/5/17.

Docket Numbers: ER18-287-000.

Applicants: PJM Interconnection, L.L.C.

Description: § 205(d) Rate Filing: Amendment to ISA No. 4493, Queue No. AB1-096 to be effective 6/17/2016.

Filed Date: 11/14/17.

Accession Number: 20171114-5074.

Comments Due: 5 p.m. ET 12/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2017.
Nathaniel J. Davis, Sr.,
Deputy Secretary.

[FR Doc. 2017-25055 Filed 11-17-17; 8:45 am]

BILLING CODE 6717-01-P